DEPARTMENT OF AGRICULTURE

Forest Service

Big Creek Vegetation Treatment Project, Wasatch-Cache National Forest, Rich County, UT

AGENCY: Forest Service, USDA.

ACTION: Notice of intent to prepare an environmental impact statement.

SUMMARY: The Forest Supervisor of the Wasatch-Chache National Forest gives notice of the agency's intent to prepare an environmental impact statement on a proposal for vegetation treatment over approximately 4,000 acres of vegetation in the 21,000 acre Big Creek project area in the Bear River Range in northeastern Utah. The project area is approximately 50 miles northeast of Ogden, Utah and is located at the headwaters of the Big Creek watershed. The vegetation types to be treated include aspen-conifer, conifer, and sagebrush communities that are not in properly functioning condition. Methods include prescribed fire, timber harvest, mechanical treatment, and herbicide application.

DATES: Comments concerning the scope of the analysis must be received by June 15, 2006. The draft environmental impact statement is expected in November, 2006 and the final environmental impact statement is expected April, 2007.

ADDRESSES: Send written comments to District Ranger, Ogden Ranger District, 507 25th Street, Suite 103, Ogden, Utah 84401, Attn: Big Creek Project. Or, e-mail comments to: comments-intermtn-wasatch-chache-ogden@fs.fed.us.

FOR FURTHER INFORMATION CONTACT: Chip Sibbernsen, Ogden Ranger District, 507 25th Street, Suite 103, Ogden, UT 84401, (801) 625-5112.

SUPPLEMENTARY INFORMATION:

Purpose and Need for Action

The purpose and need for this project is three-fold: (1) To develop variation in vegetation age and type across the landscape, consistent with the properly functioning condition as described in the Revised Forest Plan; (2) to enhance ecosystem resiliency and maintain desired fuel levels with fire operating within historical fire regimes as described in the Revised Forest Plan; and, (3) to provide commercial timber that contributes to a sustainable level of goods and services consistent with the Revised Forest Plan.

Proposed Action

The proposed project includes treatment of approximately 4,000 acres of aspen-conifer, conifer, and sagebrush communities within the Big Creek project area. This would include the following: (1) About 700 acres (primarily aspen-conifer communities) would be treated with prescribed fire in a mosaic pattern; (2) approximately 1,300 acres of sagebrush would be treated by prescribed fire, mechanical means, or application of herbicides, depending on specific site characteristics and desired results; (3) timber harvest would be the method of treatment over approximately 1,000 acres of the conifer type, including partial and selective cutting scattered over about 850 acres of Engelmann spruce/subalpine fir, Douglas-fir, and mixed conifer to regenerate aspen and conifer trees, and about 150 acres of clearcutting in lodgepole pine to incorporate existing, small clearcut units into larger patches more resembling historic landscape patterns; and (4) approximately 1,000 acres of the conifer-aspen type would have a timber harvest of commercial conifer trees followed by prescribed burning to reduce fuels and facilitate aspen regeneration.

Accessing the vegetation treatment areas would potentially require the construction of approximately 12 miles of temporary roads. These roads would be obliterated (returned to contour and revegetated) upon completion of the project. Approximately 2 miles of roads would be constructed to access conifer harvest units that are partially cut (to allow for future access). Referred to as “intermittent service roads”, these roads would be gated closed and seeded, but the road prism would be kept in place for future administrative use.

Possible Alternatives

A no action alternative will be considered as well as any other alternatives that may be developed in response to significant issues.

Responsible Official

The Responsible Official is Faye Krueger, Forest Supervisor, Wasatch-Cache National Forest, 8236 Federal Building, 125 South State Street, Salt Lake City, UT 84138.

Nature of Decision To Be Made

The decisions to be made include whether or not to implement the proposed prescribed fire, timber harvest, mechanical and chemical treatments in aspen, conifer, and sagebrush communities, and if so, where and to what degree.

Scoping Process

The forest Service invites comments and suggestions on the scope of the analysis to be included in the Draft Environmental Impact Statement (DEIS). In addition, the Forest Service gives notice that it is beginning a full environmental analysis and decision-making process for this proposal so that interested or affected people may know how they can participate in the environmental analysis and contribute to the final decision. This notice of intent initiates the scoping process which guides the development of the environmental impact statement. The Forest Service welcomes any public comments on the proposal.

Preliminary Issues

Preliminary issues include effects of treatments on wildlife habitat and threatened, endangered, and sensitive plant and wildlife populations, effects of prescribed fire on soils, protection of springs, streams, and riparian areas, potential for invasive species following treatments, and effective closure of roads after treatments.

Comment Requested

This notice of intent initiates the scoping process which guides the development of the environmental impact statement.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, Section 21.)

Dated: May 10, 2006.
Faye L. Krueger,
Forest Supervisor.

[FR Doc. 06-4539 Filed 5-15-06; 8:45 am]

BILLING CODE 3410-11-M